DEPARTMENT OF ENERGY

Federal Energy Regulatory Commission

[Docket No. EL10-15-000]

California Independent System Operator Corporation; Notice of Institution of Proceeding and Refund Effective Date

November 18, 2009.

On November 17, 2009, the Commission issued an order that instituted a proceeding in Docket No. EL10-15-000, pursuant to section 206 of the Federal Power Act (FPA), 16 U.S.C. 824e (2005), to consider the justness and reasonableness of the California Independent System Operator Corporation's tariff provisions, particularly section 9.2, as they relate to the financial security obligation following a customer's election to switch from Full Capacity deliverability to Energy-Only deliverability service. California Independent System Operator Corporation, 129 FERC ¶ 61,124 (2009).

The refund effective date in Docket No. EL10-15-000, established pursuant to section 206(b) of the FPA, will be the date of publication of this notice in the Federal Register.

Kimberly D. Bose,
Secretary.

[FR Doc. E9-28343 Filed 11-25-09; 8:45 am]

BILLING CODE P